DEPARTMENT OF THE INTERIOR

Bureau of Land Management

[LLID933000.L54200000.PN0000.LVDID1602100; IDI-38103]

Notice of Application for Recordable Disclaimer of Interest in Lands, Kootenai County, Idaho

AGENCY: Bureau of Land Management, Interior.

ACTION: Notice.

SUMMARY: The City of Coeur d'Alene, Idaho, has filed an application with the Bureau of Land Management (BLM) for a Recordable Disclaimer of Interest from the United States for land lying along the north shore of the Spokane River in Kootenai County, Idaho. This notice informs the public of the opportunity to comment on the pending application.

DATES: Comments on this application should be received by July 10, 2017.

ADDRESSES: Comments must be filed in writing with James M. Fincher, Chief, Branch of Lands, Minerals, and Water Rights, Bureau of Land Management, Idaho State Office, 1387 S. Vinnell Way, Boise, ID 83709.

FOR FURTHER INFORMATION CONTACT: John Sullivan, Supervisory Realty Specialist, at the above address or by phone at (208) 373-3863. Persons who use a telecommunications device for the deaf (TDD) may contact Mr. Sullivan by calling the Federal Relay Service (FRS) at (800) 877-8339. The FRS is available 24 hours a day, 7 days a week, to leave a message or question with Mr. Sullivan. You will receive a reply during normal business hours.

SUPPLEMENTARY INFORMATION: Pursuant to Section 315 of the Federal Land Policy and Management Act of 1976 (43 U.S.C. 1745), as amended, the City of Coeur d'Alene, Idaho, has filed an application for a Disclaimer of Interest for lands along the north shore of the Spokane River described as follows:

A parcel of land situated in a portion of Lot 4, Section 9, in Township 50 North, Range 4 West, Boise Meridian, Kootenai County, Idaho, being a portion of land surveyed as shown in a Record of Survey filed on September 29, 2015 for the record under Instrument No. 2517339000 in the Office of the Recorder of Kootenai County, Idaho, at the request of Welch Comer and Associates, Inc., being more particularly described as follows:

Commencing at a point for the east one-sixteenth (E 1/16) section corner of sections 4 and 9, which bears South 88°01′10″ East a distance of 1326.55 feet from the one-quarter (¼) section corner of sections 4 and 9, and bears North 88°01′10″ West a distance of 1326.55 feet from the corner of sections 3, 4, 9, and 10;

Thence, South 1°59′30″ West along the east-east (E-E) one-sixteenth subdivision of section line of section 9 (west line of lot 4, section 9), a distance of 405.21 feet to a point on the northerly right-of-way line of Burlington Northern Railroad and being the Point of Beginning of the herein described parcel;

Thence along the northerly right-of-way line the following 6 courses:

1. North 77°31′19″ East, a distance of 126.86 feet;

2. South 74°58′01″ East, a distance of 396.70 feet;

3. North 26°22′19″ East, a distance of 60.00 feet to a point of curvature of a non-tangent curve to the left;

4. Southeast along the non-tangent curve to the left through a central angle of 6°54′47″, a chord bearing of South 66°26′54″ East and a chord distance of 542.62 feet, having a radius of 4500.00 feet, an arc distance of 542.95 feet to a point of curvature of a non-tangent compound curve to the left;

5. Southeast along the non-tangent compound curve to the left through a central angle of 3°14′53″, a chord bearing of South 72°52′34″ East and a chord distance of 286.53 feet, having a radius of 5055.00 feet, an arc distance of 286.57 feet;

6. South 74°30′00″ East, a distance of 23.86 feet to a point on the section line between sections 9 and 10 (east line of lot 4, section 9, identical with the west line of lot 1, section 10);

Thence, South 0°59′33″ West, along the section line a distance of 62.01 feet to a point on the southerly right-of-way line of Burlington Northern Railroad;

Thence along the southerly right-of-way line the following 13 courses:

1. North 74°30′00″ West, a distance of 39.37 feet to a point of curvature of a curve to the right;

2. Northwest along the curve to the right through a central angle of 3°14′53″, a chord bearing of North 72°52′33″ West and a chord distance of 289.93 feet, having a radius of 5115.00 feet, an arc distance of 289.97 feet;

3. North 71°15′07″ West, a distance of 66.36 feet;

4. South 18°44′53″ West, a distance of 20.00 feet;

5. North 71°15′07″ West, a distance of 181.93 feet to a point of curvature to the left;

6. Northwest along the curve to the left through a central angle of 14°09′06″, a chord bearing of North 78°19′40″ West and a chord distance of 327.67 feet, having a radius of 1330.00 feet, an arc distance of 328.50 feet;

7. North 85°24′13″ West, a distance of 455.39 feet to a point on the east-east (E-E) one-sixteenth subdivision of section line of section 9 (west line of lot 4, section 9);

Thence, North 1°59′30″ East along the east-east (E-E) one-sixteenth subdivision of section line of section 9 (west line of lot 4, section 9) a distance of 131.79 feet to the Point of Beginning, containing 3.29 acres of land.

A map showing the parcel is available on the BLM Web site, https://www.blm.gov/programs/lands-and-realty/regional-information/idaho.

Basis of Bearings: Per Record of Survey filed on September 29, 2015, for the record under Instrument No. 2517339000 in the Office of the Recorder of Kootenai County, Idaho, at the request of Welch Comer and Associates, Inc.

The above-described land in section 9 is claimed by the City of Coeur d'Alene on the basis that the land was patented to the Northern Pacific Railroad Company on December 22, 1894, under the Act of July 2, 1864 (13 Stat. 356), and that the City of Coeur d'Alene is a successor in interest to the Northern Pacific Railroad Company in the described portion of section 9.

A Recordable Disclaimer of Interest is necessary because there is a discrepancy in the chain of title, which clouds the title to the above-described lands. The Kootenai County deed records at Volume C, page 361, indicate that on August 24, 1887, Northern Pacific Railroad Company conveyed title to lot 4 of Section 9, T. 50 N., R. 4 W. to Robert W. Cochran. However, as stated above, the Northern Pacific Railroad Company did not receive a patent to this land until 1894. A disclaimer of the interest in the surface estate, as reflected in the 1894 patent, makes clear that the U.S. does not have a claim to such lands except for the mineral rights specifically reserved in that patent. Issuance of a recordable disclaimer will remove any cloud on the title to the land.

Comments, including names and street addresses of commenters, will be available for public review at the BLM Idaho State Office (see ADDRESSES above), during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

If no valid objection is received, a Disclaimer of Interest may be approved, stating that the United States has no valid interest in the above-described land other than the reserved mineral interests in the above-described portion of section 9.

Authority: 43 CFR Subpart 1864.

James M. Fincher,
Chief, Branch of Lands, Minerals and Water Rights.

[FR Doc. 2017-07021 Filed 4-7-17; 8:45 am]

BILLING CODE 4310-GG-P